DEPARTMENT OF JUSTICE

Antitrust Division

Notice Pursuant to the National Cooperative Research and Production Act of 1993—American Optometric Association Commission on Ophthalmic Standards

Notice is hereby given that, on August 5, 2004, pursuant to Section 6(a) of the National Cooperative Research and Production Act of 1993, 15 U.S.C. 4301 et seq. (“the Act”), American Optometric Association Commission on Ophthalmic Standards (“AOA CmOS”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to Section 6(a) of the Act, the name and principal place of business of the standards development organization is: American Optometric Association Commission on Ophthalmic Standards, St. Louis, MO. The nature and scope of AOA CmOS's standards development activities are: The AOA CmOS provides for voluntary, impartial ophthalmic product evaluation resulting in the issuance of a seal of acceptance for those ophthalmic products that meet published standards specifications developed by the AOA CmOS, including biological, laboratory, and/or clinical evolutions, or the issuance of a seal of certification for those ophthalmic products that meet standards already approved by accepted standards organizations and which are designated for use by the AOA CmOS. The AOA CmOS selects the categories of products to be evaluated and develops evaluation specifications/standards for those ophthalmic products using the American National Standard Institute's Third Party Certification Program principles (ANSI Z34. 1-1993). Product categories for which the AOA CmOS currently has approved standards are: (1) Glare reduction filters for video display terminals: (2) non-prescription sunglasses; (3) privacy filters for video display terminals; (4) anti-reflection interference coatings for video display terminals; (5) storage cases used by wearers of contact lenses; (6) suction cup devices used to remove rigid contact lenses from the human eye; and (7) ultraviolet absorbers and blockers. Additional categories are always under review. The AOA CmOS is a nine-member commission that abides by a strict Code of Conduct for reviewing any applications for seals of acceptance of certification and for developing approved evaluation specifications/standards.

Dorothy B. Fountain,
Deputy Director of Operations, Antitrust Division.

[FR Doc. 04-22295 Filed 10-4-04; 8:45 am]

BILLING CODE 4410-11-M